SECURITIES AND EXCHANGE COMMISSION

[File No. 500-1]

In the Matter of Hendrx Corp., Plastinum Polymer Technologies Corp., Vertical Branding, Inc., WHY USA Financial Group, Inc., and XNE, Inc.; Order of Suspension of Trading

March 27, 2014.

It appears to the Securities and Exchange Commission that there is a lack of current and accurate information concerning the securities of Hendrx Corp. because it has not filed any periodic reports since the period ended September 30, 2008.

It appears to the Securities and Exchange Commission that there is a lack of current and accurate information concerning the securities of Plastinum Polymer Technologies Corp. because it has not filed any periodic reports since the period ended September 30, 2010.

It appears to the Securities and Exchange Commission that there is a lack of current and accurate information concerning the securities of Vertical Branding, Inc. because it has not filed any periodic reports since the period ended September 30, 2008.

It appears to the Securities and Exchange Commission that there is a lack of current and accurate information concerning the securities of WHY USA Financial Group, Inc. because it has not filed any periodic reports since the period ended June 30, 2009.

It appears to the Securities and Exchange Commission that there is a lack of current and accurate information concerning the securities of XNE, Inc. because it has not filed any periodic reports since the period ended September 30, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on March 27, 2014, through 11:59 p.m. EDT on April 9, 2014.

By the Commission.
Jill M. Peterson,
Assistant Secretary.

[FR Doc. 2014-07229 Filed 3-27-14; 4:15 pm]

BILLING CODE 8011-01-P